DEPARTMENT OF ENERGY

Federal Energy Regulatory Commission

[Project No. 10489-014]

City of River Falls, Wisconsin; Notice of Application Accepted for Filing, Soliciting Comments, Motions To Intervene, and Protests

Take notice that the following hydroelectric application has been filed with the Commission and is available for public inspection:

a. Application Type: Extension of license term.

b. Project No.: 10489-014.

c. Date Filed: July 6, 2015.

d. Applicant: City of River Falls, Wisconsin.

e. Name of Project: River Falls Hydroelectric Project.

f. Location: Kinnickinnic River in Pierce County, Wisconsin.

g. Filed Pursuant to: Federal Power Act, 16 U.S.C. 791a-825r.

h. Applicant Contact: Kevin Westhuis, City of River Falls, 222 Lewis Street, River Falls, WI 54022, (715) 425-0906.

i. FERC Contact: Rebecca Martin, (202) 502-6012, Rebecca.Martin@ferc.gov.

j. Deadline for filing comments, motions to intervene, and protests: September 21, 2015.

All documents may be filed electronically via the Internet. See, 18 CFR 385.2001(a)(1)(iii) and the instructions on the Commission's Web site at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, or toll free at 1-866-208-3676, or for TTY, (202) 502-8659. Although the Commission strongly encourages electronic filing, documents may be paper-filed. To paper-file, mail an original and seven copies to: Secretary, Federal Energy Regulatory Commission, 888 First Street NE., Washington, DC 20426. Please include the project number (P-10489-014) on any comments or motions filed.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Application: On September 27, 1988, the River Falls Project was issued a 30-year license that expires August 31, 2018. The licensee requests the Commission extend the term of the license for an additional 5 years from August 31, 2018, to August 31, 2023. The City submitted its notice of intent to relicense the project and pre-application document on November 27, 2013 and a request to use the traditional licensing process also on that date, which was granted by the Commission on January 27, 2014. Since that time, the River Falls City Council adopted resolutions that require a comprehensive river corridor planning process to determine whether to continue with the re-license or possibly surrender the project. The licensee states that it will be conducting additional studies to evaluate the potential for dam removal. The development of further study plans is expected to continue with stakeholders through 2017.

l. Locations of the Application: A copy of the application is available for inspection and reproduction at the Commission's Public Reference Room, located at 888 First Street NE., Room 2A, Washington, DC 20426, or by calling (202) 502-8371. This filing may also be viewed on the Commission's Web site at http://www.ferc.gov using the “eLibrary” link. Enter the docket number excluding the last three digits in the docket number field (P-10489-014) to access the document. You may also register online at http://www.ferc.gov/docs-filing/esubscription.asp to be notified via email of new filings and issuances related to this or other pending projects. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, and .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by a proof of service on all persons listed in the service list prepared by the Commission in this proceeding, in accordance with 18 CFR 385.2010.

Dated: August 21, 2015.
Kimberly D. Bose,
Secretary.

[FR Doc. 2015-21265 Filed 8-26-15; 8:45 am]

BILLING CODE 6717-01-P